DEPARTMENT OF THE TREASURY

Office of the Comptroller of the Currency

[Docket ID OCC-2024-0015]

Minority Depository Institutions Advisory Committee

AGENCY: Office of the Comptroller of the Currency (OCC), Treasury.

ACTION: Notice of Federal advisory committee meeting.

SUMMARY: The OCC announces a meeting of the Minority Depository Institutions Advisory Committee (MDIAC).

DATES: The OCC MDIAC will hold a public meeting on Tuesday, September 24, 2024, beginning at 8:30 a.m. eastern daylight time (EDT). The meeting will be in person and virtual.

ADDRESSES: The OCC will hold the September 24, 2024 meeting of the MDIAC at the OCC's offices at 400 7th Street SW, Washington, DC 20219 and virtually.

FOR FURTHER INFORMATION CONTACT: André King, Designated Federal Officer and Assistant Deputy Comptroller, (202) 649-5420, Office of the Comptroller of the Currency, 400 7th Street SW, Washington, DC 20219. If you are deaf, hard of hearing, or have a speech disability, please dial 7-1-1 to access telecommunications relay services. You may also access prior MDIAC meeting materials on the MDIAC page of OCC's website.¹

¹ https://www.occ.gov/topics/supervision-and-examination/bank-management/minority-depository-institutions/minority-depository-institutions-advisory-committee.html.

SUPPLEMENTARY INFORMATION: Under the authority of the Federal Advisory Committee Act (the Act), 5 U.S.C. 1001 et seq., and the regulations implementing the Act at 41 CFR part 102-3, the OCC is announcing that the MDIAC will convene a public meeting at 8:30 a.m. EDT on Tuesday, September 24, 2024. Agenda items will include a discussion of current regulatory and operational topics of interest to the industry, for example, updates on economic trends affecting minority depository institutions and the implementation of rules and policies that affect the operations and consumer compliance activities of minority depository institutions. The agenda also includes a Roundtable discussion with MDIAC members and OCC staff.

The purpose of the meeting is for the MDIAC to advise the OCC on steps the agency may be able to take to ensure the continued health and viability of minority depository institutions and other issues of concern to minority depository institutions. In addition to attending the meeting, members of the public may submit written statements to the MDIAC by email to: MDIAC@occ.treas.gov.

The OCC must receive any written statements no later than 5:00 p.m. EDT on Thursday, September 19, 2024. Members of the public who plan to attend the public meeting should contact the OCC by 5:00 p.m. EDT on Thursday, September 19, 2024—to indicate whether they will attend in person or virtually, and to obtain information about participating in the meeting—via email at MDIAC@occ.treas.gov or by telephone at (202) 649-5420. Attendees should provide their full name, email address, and organization, if any. Members of the public who are deaf, hard of hearing, or have a speech disability, should dial 7-1-1 to access telecommunications relay services for this meeting.

Michael J. Hsu,
Acting Comptroller of the Currency.

[FR Doc. 2024-19915 Filed 9-4-24; 8:45 am]

BILLING CODE 4810-33-P